DEPARTMENT OF THE INTERIOR

Bureau of Land Management

[20X L1109AF LLUTY02000 L17110000.PN0000 241A]

Call for Nominations for the Bears Ears National Monument Advisory Committee

AGENCY: Bureau of Land Management, Interior.

ACTION: Notice.

SUMMARY: The purpose of this notice is to request public nominations for five members to the Bears Ears National Monument Advisory Committee (BENM-MAC). The BENM-MAC provides information and advice regarding development of the management plan and, as appropriate, management of the Monument. The Monticello Field Office will accept public nominations for 30 days from the date this Notice is posted. Committee duties and responsibilities are solely advisory in nature.

DATES: A completed nomination form and accompanying nomination/recommendation letters must be received by May 22, 2020.

ADDRESSES: Send nominations to the Monticello Field Office, 365 North Main, Monticello, UT 84535, Attention: BENM-MAC Nominations, or jepalma@blm.gov with the subject line BENM-MAC Nominations.

FOR FURTHER INFORMATION CONTACT: Jake Palma, Bears Ears National Monument Manager, Monticello Field Office, 365 North Main, Monticello, UT 84535; phone (435) 587-1539, or email: jepalma@blm.gov. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: The Federal Land Policy and Management Act (FLPMA) directs the Secretary of the Interior to involve the public in planning and issues related to management of lands administered by the BLM. Section 309 of FLPMA directs the Secretary of the Interior to establish 10- to 15-member citizen-based advisory councils that are consistent with the Federal Advisory Committee Act. The rules governing advisory committees are found at 43 CFR subpart 1784.

The BENM-MAC has vacancies in the following categories:

(1) A representative with paleontological expertise;

(2) A representative of the conservation community;

(3) A representative of private landowners;

(4) A representative of local business owners; and

(5) A representative of the public at large, including, for example, sportsmen and sportswomen communities.

Members will be appointed to 3-year terms.

Nominating Potential Members: Nomination forms may be obtained from the Monticello Field Office, (address listed above) or https://www.blm.gov/get-involved/rac-near-you/utah/benm-mac. All nominations must include a completed Resource Advisory Council application (OMB Control No. 1004-0204), letters of reference from the represented interests or organizations, and any other information that speaks to the nominee's qualifications.

The specific category the nominee would be representing should be identified in the letter of nomination and in the application form.

Members of the BENM-MAC serve without compensation. However, while away from their homes or regular places of business, BENM-MAC and subcommittee members engaged in BENM-MAC or subcommittee business may be allowed travel expenses, including per diem in lieu of subsistence, as authorized by 5 U.S.C. 5703, in the same manner as persons employed intermittently in Federal Government service.

The BENM-MAC will meet approximately two to four times annually, and at such other times as designated by the DFO.

Public Disclosure of Comments: Before including your address, phone number, email address, or other personal identifying information in your comment, you should be aware that your entire comment—including your personal identifying information—may be publicly available at any time. While you can ask us in your comment to withhold your personal identifying information from public review, we cannot guarantee that we will be able to do so.

(Authority: 43 CFR 1784.4-1)

Anita Bilbao,
Acting State Director.

[FR Doc. 2020-08463 Filed 4-21-20; 8:45 am]

BILLING CODE 4310-DQ-P